LEGAL SERVICES CORPORATION

Sunshine Act Meetings of the Board of Directors and the Board's Five Committees; Notice

Times and Dates: The Legal Services Corporation Board of Directors and five of the Board's Committees will meet on August 1-2, 2008 in the order set forth in the following schedule, with each meeting commencing promptly upon adjournment of the immediately preceding meeting.

Public Observation by Telephone: Members of the public who wish to listen to the open portions of the meetings live may do so by following the telephone call-in directions given below. You are asked to keep your telephone muted to eliminate background noises. Comments from the public may from time to time be solicited by the presiding Chairman.

Call-In Directions for Open Sessions

Friday, August 1, 2008

• Call toll-free number 1-888-603-7025.

• When prompted, enter the following numeric pass code: 24700.

• When connected to the call, please ``MUTE'' your telephone immediately.

Saturday, August 2, 2008

• Call toll-free number 1-888-928-9122.

• When prompted, enter the following numeric pass code: 24700.

• When connected to the call, please ``MUTE'' your telephone immediately.

Meeting Schedule

Friday, August 1, 2008. Time: 1:15 p.m.¹

¹ Please note that all times in this notice are Eastern Daylight Time.

1. Provision for the Delivery of Legal Services Committee (Provisions Committee).

2. Operations & Regulations Committee.

3. Audit Committee.

Saturday, August 2, 2008. Time: 8:30 a.m.

4. Audit Committee (Continued).

5. Finance Committee.

6. Annual Performance Review Committee.

7. Board of Directors.

Location: The Sheraton Suites Hotel, 422 Delaware Avenue, Wilmington, Delaware.

Status of Meetings: Open, except as noted below.

August 2, 2008 Board of Directors Meeting—Open, except that a portion of the meeting of the Board of Directors may be closed to the public pursuant to a vote of the Board of Directors to consider and perhaps act on the General Counsel's report on potential and pending litigation involving LSC. A verbatim written transcript of the session will be made. The transcript of any portions of the closed session falling within the relevant provisions of the Government in the Sunshine Act, 5 U.S.C. 552b(c)(10), and the corresponding provisions of the Legal Services Corporation's implementing regulation, 45 CFR 1622.5(h), will not be available for public inspection.

A portion of the meeting of the Performance Review Committee may also be closed to the public pursuant to a vote of the Board of Directors in order to consider and possibly act on the recommendation of the Performance Review Committee regarding renewal/extension and revision of Helaine M. Barnett's contract of employment as President of the Corporation. The transcript of any portions of the closed session falling within the relevant provisions of the Government in the Sunshine Act, 5 U.S.C. 552b(c)(2) & (6), and the corresponding provisions of the Legal Services Corporation's implementing regulation, 45 CFR 1622.5(a) & (e), will not be available for public inspection.

The transcript of any portions of the closed sessions not falling within the cited provisions will be available for public inspection. A copy of the General Counsel's Certifications that the closings are authorized by law will be available upon request.

Matters To Be Considered:

Friday, August 1, 2008

Provision for the Delivery of Legal Services Committee

Agenda

Open Session

1. Approval of agenda.

2. Approval of the Committee's meeting minutes of April 25, 2008.

3. Chairman's Report on LSC Executive Director Conference Session on “The Role of the Executive Director in Promoting Quality”.

4. Staff Update on LSC Technology Criteria for Legal Aid Offices.

5. Staff Update on activities implementing the LSC Private Attorney Involvement Action Plan—Help Close the Justice Gap: Unleash the Power of Pro Bono.

6. Staff Update on Pilot Loan Repayment Assistance Program—Second Year Evaluation and Implementation of 2008 Pilot LRAP Appropriation.

7. Staff Update on Native American Delivery and Funding.

8. Public comment.

9. Consider and act on other business.

10. Consider and act on adjournment of meeting.

Operations & Regulations Committee

Agenda

Open Session

1. Approval of agenda.

2. Approval of the minutes of the Committee's April 26, 2008 meeting.

3. Consider and act on “alternative sanctions” rulemaking:

• Staff report on regulatory workshop.

• OIG comment.

• Public comment.

4. Consider and act on 2009 Grant Assurances:

• Staff report.

• OIG comment.

• Public comment.

5. Consider and act on recommendation(s) to make to the Board on a revised charter for the Operations & Regulations Committee.

6. Consider and act on Draft NPRM implementing OPEN Government Act changes to FOIA:

• Staff report.

• OIG comment.

• Public comment.

7. Consider and act on rulemaking petition regarding financial eligibility requirements in disaster areas.

8. Consider and act on other business.

9. Other public comment.

10. Consider and act on adjournment of meeting.

Audit Committee

Agenda

Open Session

1. Approval of agenda.

2. Approval of minutes of the Committee's meeting of April 26, 2008.

3. Report of the Committee Chairman.

4. Consider and act on new Protocol for the acceptance and use of private contributions to LSC.

5. Discussion of LSC fundraising efforts and other alternatives.

6. Report of the Inspector General on LSC's auditor selection process.

7. Report of the Inspector General on how the work of the Office of Inspector General will assist and complement the work of the Audit Committee.

8. Report of Management on Risk Assessment Plan.

9. Consider and act on development of a workplan for the Committee.

10. Public comment.

11. Consider and act on other business.

12. Consider and act on adjournment of meeting.

Saturday, August 2, 2008

Audit Committee

Agenda

Open Session

1. Approval of agenda.

2. Approval of minutes of the Committee's meeting of April 26, 2008.

3. Report of the Committee Chairman.

4. Consider and act on new Protocol for the acceptance and use of private contributions to LSC.

5. Discussion of LSC fundraising efforts and other alternatives.

6. Report of the Inspector General on LSC's auditor selection process.

7. Report of the Inspector General on how the work of the Office of Inspector General will assist and complement the work of the Audit Committee.

8. Report of Management on Risk Assessment Plan.

9. Consider and act on development of a workplan for the Committee.

10. Public comment.

11. Consider and act on other business.

12. Consider and act on adjournment of meeting.

Finance Committee

Agenda

Open Session

1. Approval of agenda.

2. Approval of the minutes of the Committee's open session meeting of April 26, 2008.

3. Approval of the minutes of the Committee's closed session meeting of April 26, 2008.

4. Consider and act on proposed protocol for the acceptance and use of private contributions to LSC:

• Presentation by Charles Jeffress.

• Comments by David Richardson.

5. Consider and act on FY 2008 Revised Consolidated Operating Budget, including internal budgetary adjustments and budget reallocations:

• Presentation by David Richardson.

• Comments by Charles Jeffress.

6. Presentation on LSC's Financial Reports for the Third Quarter Ending June 30, 2008:

• Presentation by David Richardson.

• Comments by Charles Jeffress.

7. Report on the status of the FY 2009 Appropriations process:

• Report by John Constance.

8. Consider and act on adoption of FY 2009 Temporary Operating Authority effective October 1, 2008.

9. Discussion regarding planning for FY 2010 budget.

10. Discussion of new IRS Form 990.

11. Consider and act on other business.

12. Public comment.

13. Consider and act on adjournment of meeting.

Performance Review Committee

Agenda

Open Session

1. Approval of agenda.

2. Approval of the minutes of the Committee's meeting of April 25, 2008.

3. Consider and act on whether to recommend to the Board that the Performance Review Committee be reconstituted as the Board's new Governance & Performance Review Committee.

4. Consider and act on a charter to recommend to the Board for the Performance Review Committee or the Governance & Performance Review Committee, whichever the Committee recommends to the Board.

5. Consider and act on recommendations made to the Board in the Government Accountability Office report on LSC governance.

a. Develop a plan for providing a regular training program for board members that includes providing updates or changes in LSC's operating environment and relevant governance and accountability practices.

b. Implement a periodic self-assessment of the Board's, the committees’, and each individual member's performance for purposes of evaluating whether improvements can be made to the board's structure and processes.

c. Establish and implement a comprehensive orientation program for new board members to include key topics such as fiduciary duties, IRS requirements, and interpretation of the financial statements.

6. Consider and act on procedures and timetable for annual performance review of the President.

7. Discuss with the Inspector General the process for assessment of his performance and other related issues.

8. Consider and act on other business.

9. Other public comment.

Closed Session

10. Consider and act on possible recommendation to the Board to renew/extend and revise Helaine M. Barnett's contract of employment as President of the Corporation.

11. Consider and act on motion to adjourn the meeting.

Board of Directors

Agenda

Open Session

1. Approval of agenda.

2. Approval of minutes of the Board's Open Session meeting of April 26, 2008.

3. Approval of minutes of the Board's Open Session telephonic meeting of May 27, 2008.

4. Chairman's Report.

5. Members' Reports.

6. President's Report.

7. Inspector General's Report.

8. Consider and act on the report of the Provision for the Delivery of Legal Services Committee.

9. Consider and act on the report of the Finance Committee.

10. Consider and act on the report of the Operations and Regulations Committee.

a. Consider and act on adoption of charter for the Board's Operations and Regulations Committee.

11. Consider and act on the report of the Audit Committee.

12. Consider and act on the report of the Performance Review Committee.

a. Consider and act on whether to reconstitute the Board's Performance Review Committee as a new Committee on Governance and Performance Review.

b. Consider and act on adoption of a charter for the Performance Review or, if the committee is reconstituted as per agenda item #12a, for the Governance and Performance Review Committee.

13. Consider and act on the report of the Board's Ad Hoc Committee.

14. Consider and act on proposed Protocol for Board member access to Corporation records.

15. Consider and act on review and update of the Corporation's five-year strategic plan.

16. Consider and act on a resolution to recognize pro bono assistance of Lowenstein Sandler, PC.

17. Public comment.

18. Consider and act on other business.

19. Consider and act on whether to authorize an executive session of the Board to address items listed below under Closed Session.

Closed Session

20. Approval of minutes of the Board's Executive Session of April 26, 2008.

21. Consider and act on General Counsel's report on potential and pending litigation involving LSC.

22. Consider and act on recommendation of the Performance Review Committee regarding possible renewal/extension and revision of Helaine M. Barnett's contract of employment as President of the Corporation.

23. Consider and act on motion to adjourn meeting.

CONTACT PERSON FOR INFORMATION: Patricia D. Batie, Manager of Board Operations, at (202) 295-1500.

SPECIAL NEEDS: Upon request, meeting notices will be made available in alternate formats to accommodate visual and hearing impairments. Individuals who have a disability and need an accommodation to attend the meeting may notify Patricia D. Batie, at (202) 295-1500.

Dated: July 24, 2008.
Victor M. Fortuno,
Vice President & General Counsel.

[FR Doc. 08-1470 Filed 7-24-08; 3:38 pm]

BILLING CODE 7050-01-P